DEPARTMENT OF AGRICULTURE

Forest Service

Intermountain Region, Boise, Payette, and Sawtooth National Forests; Supplement to the Environmental Impact Statement for the Revised Land and Resource Management Plan Environmental Impact Statement

AGENCY: Forest Service, USDA.

ACTION: Notice of intent to supplement an environmental impact statement.

SUMMARY: The Forest Service will prepare a supplement to the final environmental impact statement (EIS) for the Southwest Idaho Ecogroup Revised Land and Resource Management Plan EIS to present additional information concerning terrestrial Management Indicator Species (MIS).

DATES: Comments concerning the scope of the analysis must be received 45 days after publication of the draft supplement to the Southwest Idaho Ecogroup Revised Land and Resource Management Plan (SWIEG FLRMP) EIS. The draft supplement to the SWIEG FLRMP EIS is expected December 2006 and the final supplement is expected March 2007.

ADDRESSES: Send written comments to Sharon LaBrecque, Planning, GIS and Vegetation Staff Officer, Sawtooth National Forest; 2647 Kimberly Road East, Twin Falls, Idaho 83301; or via telephone at (208) 737-3200; or you may hand-deliver your comments to the Sawtooth Forest Supervisor's Officer, located at 2647 Kimberly Road East, Twin Falls, during normal business hours from 8 a.m. to 5 p.m., Monday through Friday, excluding Federal holidays. Electronic comments must be submitted in a format such as an e-mail message, plain text (.txt), rich text format (.rtf), and Word (.doc) to: comments-intermtn-sawtooth@fs.fed.us.

FOR FURTHER INFORMATION CONTACT: Sharon LaBrecque, GIS and Vegetation Staff Officer, Sawtooth National Forest at the address above.

SUPPLEMENTARY INFORMATION: The Forest Service is proposing to prepare a supplement to the final environmental impact statement for the SWIEG FLRMP. In accordance with FSH 1909.15—Chapter 10—Section 18, the 2003 SWIEG FLRMP Final EIS has been reviewed. The Forest Service will prepare a supplement to the Final EIS by analyzing and presenting additional information concerning terrestrial management Indicator Species (MIS) specific to the 1982 regulations at 36 CFR 219.20. The scope and analysis of the proposed supplement to the Final EIS will be limited to the requirements for MIS analysis in 36 CFR 219.20.

The original Notice of Intent for revision of the SWIEG FLRMP EIS was published in the Federal Register Vol. 63, No. 79, April 24, 1998. In July, 2003, a separate Record of Decision (ROD) was issued for each of the three SWIEG Forests (Boise, Payette, and Sawtooth) which implemented Alternative 7 as described in their respective ROD. All three RODs were appealed in 2004. The Appeal Deciding Officer affirmed each ROD on March 9, 2005.

Purpose and Need for Action

The supplement will not change the purpose and need which was described in the SWIEG FLRMP Final EIS on pages 1-4 through 1-8. The scope of the supplement is only to provide additional analysis regarding terrestrial MIS.

Proposed Action

The supplement will not change the proposed action which was described in the SWIEG FLRMP Final EIS on pages 1-1 through 1-3. The scope of the supplement is only to provide additional analysis in accordance with 36 CFR 219.20 regarding terrestrial MIS.

Responsible Official

The Responsible Official is Jack Troyer, Intermountain Regional Forester, USDA—Forest Service; 324 25th Street; Ogden, UT 84401.

Nature of Decision To Be Made

The Responsible Official will review the supplement and determine if the 2003 Records of Decision for the Boise, Payette, and Sawtooth National Forests, based on the SWIEG FLRMP Final EIS, should be modified or if the original decisions are to remain in effect and unchanged.

Scoping Process

Extensive public involvement has occurred on this project over the last ten years in the form of news releases, field tours, and public meetings. No additional scoping is planned for this supplement.

Comment Requested

A legal notice will be published in the newspaper of record and a Notice of Availability will be published in the Federal Register to inform the public when the supplement to the SWIEG FLRMP EIS is availale for review and comment. The draft supplement to the SWIEG FLRMP EIS will be distributed to all parties that received the 2003 SWIEG FLRMP Final EIS and Record of Decision and to those parties that filed an appeal of the 2003 decision.

Early Notice of Importance of Public Participation in Subsequent Environmental Review: A draft supplement to the SWIEG FLRMP EIS will be prepared for comment. The comment period on the draft supplement to teh SWIEG FLRMP EIS will be 45 days from the date the Environmental Protection Agency publishes the notice of availability in the Federal Register.

The Forest Service believes, at this early stage, it is important to give reviewers notice of several court rulings related to public participation in the environmental review process. First, reviewers of the draft supplement must structure their participation in the environmental reivew of the proposal so that it is meaningful and alerts an agency to the reviewer's position and contentions. Vermont Yankee Nuclear Power Corp. v. NRDC, 435 U.S. 519, 553 (1978). Also, environmental objections that could be raised at the draft supplement stage but that are not raised until after completion of the final supplement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final supplement to the SWIEG FLRMP EIS. To assist the Forest Service it is helpful if comments refer to specific pages or chapters of the draft supplement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)
Dated: August 3, 2006.
Sharon LaBrecque,
Planning, GIS and Vegetation Staff Officer, Sawtooth National Forest.

[FR Doc. 06-6788 Filed 8-8-06; 8:45 am]

BILLING CODE 3410-11-M